DEPARTMENT OF VETERANS AFFAIRS

Advisory Committee on Disability Compensation, Notice of Meeting

The Department of Veterans Affairs (VA) gives notice under the Federal Advisory Committee Act, 5 U.S.C. ch. 10, that the Advisory Committee on Disability Compensation (hereinafter the Committee) will hold virtual meeting sessions on Thursday, September 26, 2024, and Friday, September 27, 2024. The meeting session will begin, and end as follows:

Date | Time
Thursday, September 26, 2024 | 9:00 a.m. to 2:00 p.m. Eastern Daylight Time (EDT).
Friday, September 27, 2024 | 9:00 a.m. to 2:00 p.m. EDT.

The meeting sessions are open to the public.

The purpose of the Committee is to advise the Secretary of Veterans Affairs on the maintenance and periodic readjustment of the VA Schedule for Rating Disabilities (VASRD). The Committee is to assemble and review relevant information relating to the nature and character of disabilities arising during service in the Armed Forces, provide an ongoing assessment of the effectiveness of the VASRD, and give advice on the most appropriate means of responding to the needs of Veterans relating to disability compensation in the future.

On Thursday, September 26, 2024, through Friday, September 27, 2024, the agenda will include updates from various staffs on ongoing VA initiatives and priorities, subcommittee out briefs, and voting of topics to include in the 2024 Biennial Report.

In addition, on Thursday, September 26, 2024, the public comment period will be open for 30-minutes from 9:15 a.m. to 9:45 a.m. EST. The public can also submit one-page summaries of their written statements for the Committee's review. Public comments may be received no later than Wednesday, September 18, 2024, for inclusion in the official meeting record. Please send these comments to Jadine Piper of the Veterans Benefits Administration, Compensation Service, at 21C_ACDC.VBACO@va.gov.

Members of the public who wish to obtain a copy of the agenda should contact Jadine Piper at 21C_ACDC.VBACO@va.gov. The call-in number (United States, Chicago) for those who would like to attend the meeting is: 872-701-0185; phone conference ID: 402 057 12 #. Members of the public may also access the meeting by pasting the following URL into a web browser: bit.ly/ACDCSeptember2024.

Dated: August 26, 2024.
Jelessa M. Burney,
Federal Advisory Committee Management Officer.

[FR Doc. 2024-19459 Filed 8-28-24; 8:45 am]

BILLING CODE 8320-01-P